DEPARTMENT OF LABOR

Privacy Act of 1974; System of Records

AGENCY: Office of Workers Compensation Programs, Department of Labor.

ACTION: Notice of a new system of records.

SUMMARY: The Privacy Act of 1974 and Office of Management and Budget (OMB) Circular No. A-108 require that each agency publish notice of a new or modified system of records that it maintains. The Office of Workers Compensation proposes to add a new system of records for its Ombuds Office. The system consists of an online form for Ombud's Office inquiries and a database to store the information from the form so the Ombud's office can track the inquiry and the actions it is taking to resolve the issue.

DATES: Comments must be received no later than December 2, 2024. This modification is effective upon publication of this Notice. If no public comments are received, the routine uses will be effective beginning December 2, 2024. If DOL receives public comments, DOL will review the comments to determine whether any changes to the notice are necessary.

ADDRESSES: We invite you to submit comments on this notice. You may submit comments by any of the following methods:

• Mail, hand delivery, or courier: 200 Constitution Avenue NW, Room S-3524, Washington, DC 20210. In your comment, specify “OWCP Ombuds File System, DOL/OWCP-14.”

• The OWCP Ombud's Office at OWCP.Ombuds@dol.gov.

FOR FURTHER INFORMATION CONTACT: To submit general questions about the system, contact Shalonda Cawthon by email at OWCP.Ombuds@dol.gov or (202) 343-5580 (this is not a toll-free number).

SUPPLEMENTARY INFORMATION: This notice is for a new system of records operated by the OWCP Ombuds Office for the Division of Federal Employees' Longshore and Harbor Workers' Compensation (DFELHWC) and Division of Coal Mine Workers' Compensation (DCMWC).

SYSTEM NAME AND NUMBER:

OWCP Ombuds File System, DOL/OWCP-14.

SECURITY CLASSIFICATION:

Unclassified.

SYSTEM LOCATION:

U.S. Department of Labor, OWCP, Ombuds Office—DFELHWC and DCMWC, Frances Perkins Building, 200 Constitution Ave. NW, Washington, DC 20210 and on the DOL Microsoft Azure Cloud.

SYSTEM MANAGER(S):

OWCP Ombudsperson for Division of Federal Employees' Longshore and Harbor Workers' Compensation (DFELHWC) and Division of Coal Mine Workers' Compensation (DCMWC), 200 Constitution Ave. NW, Washington, DC 20210.

AUTHORITY FOR MAINTENANCE OF THE SYSTEM:

a. 30 U.S.C. 901 et seq., 20 CFR 725.1 et seq.

b. 33 U.S.C. 901 et seq. (20 CFR parts 701 et seq.); 36 DC Code 501 et seq.; 42 U.S.C. 1651 et seq.; 43 U.S.C. 1331 et seq.; 5 U.S.C. 8171 et seq.

c. 5 U.S.C. 8101 et seq., 20 CFR 1.1 et seq.

PURPOSE(S) OF THE SYSTEM:

The OWCP Ombuds Office serves claimants and external interested parties who seek assistance with inquiries, individual concerns and achieving resolution to complaints related to the Division of Federal Employees', Longshore and Harbor Workers' Compensation (DFELHWC), and the Division of Coal Mine Workers' Compensation (DCMWC) programs. The Ombuds Office System will provide a mechanism for interested parties to submit inquiries and concerns. The system will also provide a method for the OWCP Ombuds Office to track inquiries and identify systemic issues impacting the customer experience.

CATEGORIES OF INDIVIDUALS COVERED BY THE SYSTEM:

Individual claimants or their survivors who are seeking benefits from the Division of Federal Employees', Longshore and Harbor Workers' Compensation (DFELHWC) or the Division of Coal Mine Workers' Compensation (DCMWC) programs as well as their authorized representatives, such as attorneys, family members or advocates who have been chosen by claimants to represent them in regard to their claims with OWCP.

CATEGORIES OF RECORDS IN THE SYSTEM:

This system may contain the following information gathered from the Ombuds Inquiry Form:

1. Date Inquiry Form Submitted.

2. Claimant First and Last Name.

3. Claimant Date of Birth.

4. OWCP Program.

5. Claim Number/Case I.D./OWCP Number.

6. Claimant Phone Number.

7. Claimant Email Address.

8. Claimant Home Address (street, city, state, zip code).

9. Authorized Representative First and Last Name (if applicable).

10. Authorized Representative Email Address (if applicable).

11. Inquiry/Concern Narrative.

In addition, the system will track information on the status of the inquiry and its resolution.

RECORD SOURCE CATEGORIES:

The source of the records is the Ombuds Inquiry Form, which is submitted by individual claimants (current federal employees, past federal employees, members of the public) or their survivors who are seeking the assistance of the Ombuds office in connection with benefits from the OWCP's DFELHWC and DCMWC programs as well as the authorized representatives of those individuals.

ROUTINE USES OF RECORDS MAINTAINED IN THE SYSTEM, INCLUDING CATEGORIES OF USERS AND THE PURPOSE OF SUCH USES:

The Ombuds Office may disclose relevant and necessary information for purpose of resolving an inquiry or concern, if consent is given by the claimant or authorized representative to share the information, as indicated on through the online Ombuds Inquiry Form. In addition to the disclosures contained in the DOL's Universal Routine Uses of Records,¹ a record from this system of records may be disclosed as follows:

¹ See https://www.dol.gov/general/privacy under the heading “System of Records Notices (SORNs).”

a. To appropriate agencies, entities, and persons when (a) DOL suspects or has confirmed that there has been a breach of the system of records; (b) DOL has determined that as a result of the suspected or confirmed breach there is a risk of harm to individuals, DOL (including its information systems, programs, and operations), the Federal Government, or national security; and (c) the disclosure made to such agencies, entities, and persons is reasonably necessary to assist in connection with DOL's efforts to respond to the suspected or confirmed breach or to prevent, minimize, or remedy such harm.

b. To another Federal agency or Federal entity, when DOL determines that information from this system of records is reasonably necessary to assist the recipient agency or entity in (a) responding to a suspected or confirmed breach or (b) preventing, minimizing, or remedying the risk of harm to individuals, the recipient agency or entity (including its information systems, programs, and operations), the Federal Government, or national security, resulting from a suspected or confirmed breach.

POLICIES AND PRACTICES FOR STORAGE OF RECORDS:

Files are stored electronically. Users will fill out an online Inquiry Form, which is saved to a dedicated SharePoint repository where information is analyzed by the OWCP Ombuds Office staff. It is a one-way transaction and after submitting the form, the submitter no longer has access to the information in the form that was submitted. The SharePoint repository is stored on the DOL Azure Cloud with periodic backup of the data to protect against system failure or loss. Other than backups there are no copies of the data stored outside the DOL Azure Cloud.

POLICIES AND PRACTICES FOR RETRIEVAL OF RECORDS:

Records are retrieved by claimant's name, claim number/ID number, program, and/or date of birth.

POLICIES AND PRACTICES FOR RETENTION AND DISPOSAL OF RECORDS:

The system maintains only PII that is necessary and relevant to accomplish the purpose for which it is being collected. It will be destroyed when 5 years old or when no longer needed for reference based on NARA approved Record Control Schedules DAA-0271-2017-0002-0002.

ADMINISTRATIVE, TECHNICAL, AND PHYSICAL SAFEGUARDS:

DOL uses a role-based access for the system's SharePoint files where only those expressly granted access by the system administrator can see the folder where the information is stored. Users can be granted read only or read/write access and access will be granted only to authorized personnel from the Ombud's Office. DOL works with Microsoft to ensure the security of the cloud environment. Controls include but are not limited to, firewalls, least privilege, role-based access, and two factor authentication. DOL assigns NIST 800-53 control requirements to the system.

RECORD ACCESS PROCEDURES:

If an individual wishes to access their own records in the system, the individual should contact OWCP directly and follow the instructions for making a Privacy Act Request on the DOL's web page at: https://www.dol.gov/general/privacy/instructions. The DOL also describes its process for requesting records under the Privacy Act in regulations at 29 CFR 71.2. Individuals who need additional assistance may also reach out to the DOL's Privacy Office by email at privacy@dol.gov.

CONTESTING RECORD PROCEDURES:

If an individual wishes to request a correction or amendment of a record, the individual should direct their request to OWCP directly. The request must be in writing and must identify:

• The name of the individual making the request,

• The particular record in question,

• The correction or amendment sought,

• The justification for the change, and

• Any other pertinent information to help identify the file.

Additional information can be found on the DOL's web page at: https://www.dol.gov/general/privacy/instructions. The DOL also describes its process for requesting a correction or amendment at 29 CFR 71.9. Individuals who need additional assistance may also reach out to the DOL's Privacy Office by email at privacy@dol.gov.

NOTIFICATION PROCEDURES:

If an individual wishes to know if a system contains information about the individual, the individual should contact OWCP directly and follow the instructions for making a Privacy Act Request on the DOL's web page at: https://www.dol.gov/general/privacy/instructions. The DOL also describes its process for requesting records under the Privacy Act in regulations at 29 CFR 71.2. Individuals who need additional assistance may also reach out to the DOL's Privacy Office by email at privacy@dol.gov.

EXEMPTIONS PROMULGATED FOR THE SYSTEM:

None.

HISTORY:

None. This is a new System of Records.

Signed at Washington, DC.
Carolyn Angus-Hornbuckle,
Assistant Secretary for Administration and Management.

[FR Doc. 2024-25410 Filed 10-31-24; 8:45 am]

BILLING CODE 4510-CK-P